FEDERAL COMMUNICATIONS COMMISSION

47 CFR Part 73

[DA 00-2714; MM Docket No. 00-120; RM-9902]

Radio Broadcasting Services; Meeker and Craig, CO

AGENCY: Federal Communications Commission.

ACTION: Proposed rule; denial.

SUMMARY: This document denies a petition filed on behalf of Western Slope Communications, L.L.C., permittee of Station KAYW, Channel 251C, Meeker, Colorado, requesting the reallotment of Channel 251C from Meeker to Craig, Colorado, and modification of the authorization for Station KAYW accordingly. See 65 FR 45017, July 20, 2000. The reallotment proposal is denied as it would remove the sole local potential service at Meeker, and would not result in a preferential arrangement of allotments pursuant to the Commission's allotment priorities. See Modification of FM and TV Authorizations to Specify a New Community of License, 4 FCC Rcd 4870 (1989), recon. granted in part, 5 FCC Rcd 7094 (1990); and Revision of FM Assignment Policies and Procedures, 90 FCC 2d 88 (1982).

ADDRESSES: Federal Communications Commission, Washington, DC 20554.

FOR FURTHER INFORMATION CONTACT: Nancy Joyner or Jeffrey Sutherland (engineering issues), Mass Media Bureau, (202) 418-2180.

SUPPLEMENTARY INFORMATION: This is a synopsis of the Commission's Report and Order, MM Docket No. 00-120, adopted November 22, 2000, and released December 1, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

Federal Communications Commission.
John A. Karousos,
Chief, Allocations Branch, Policy and Rules Division, Mass Media Bureau.

[FR Doc. 00-31400 Filed 12-8-00; 8:45 am]

BILLING CODE 6712-01-U